DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On September 29, 2021, OFAC determined that the property and interests in property subject to U.S. jurisdiction of the following persons are blocked under the relevant sanctions authority listed below.

Individuals

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, HIZBALLAH, a person whose property and interests in property are blocked pursuant to E.O. 13224.

2. AL-`ABD-AL-MUHSIN, Yahya Muhammad (a.k.a. AL-ABDULMOHSEN, Yahya Mohamad; a.k.a. ALABDULMOHSEN, Yahya Mohammed Y; a.k.a. AL-ABU HAYDAR, Yahya Muhammad; a.k.a. “YAHYA, Sayyid”), Saudi Arabia; DOB 16 Dec 1979; citizen Saudi Arabia; Gender Male; Passport P045620 (Saudi Arabia) expires 22 Mar 2019; National ID No. 1003159462 (Saudi Arabia) (individual) [SDGT] (Linked To: AL BANAI, Ali Reda Hassan).

Designated pursuant to section 1(a)(iii)(C) of E.O. 13224, as amended, for having materially assisted, sponsored, or provided financial, material, or technological support for, or goods or services to or in support of, ALI REDA HASSAN AL-BANAI, a person whose property and interests in property are blocked pursuant to E.O. 13224, as amended.

3. AL-BANAI, Abd al-Muayyid (a.k.a. AL BANAI, A Moayied Rida H; a.k.a. AL-BANAI, `Abd al-Muwid Rada Hasn; a.k.a. AL-BANAI, Abd-al-Mu'ayyid Ridha Hassan), Qatar; DOB 1959; POB Qatar; nationality Qatar; Gender Male; Passport 265643 (Qatar) (individual) [SDGT] (Linked To: HIZBALLAH).

Designated pursuant to section 1(a)(iii)(C) of E.O. 13224, as amended, for having materially assisted, sponsored, or provided financial, material, or technological support for, or goods or services to or in support of, HIZBALLAH, a person whose property and interests in property are blocked pursuant to E.O. 13224.

Designated pursuant to section 1(a)(iii)(C) of E.O. 13224, as amended, for having materially assisted, sponsored, or provided financial, material, or technological support for, or goods or services to or in support of, ALI REDA HASSAN AL-BANAI, a person whose property and interests in property are blocked pursuant to E.O. 13224, as amended.

Designated pursuant to section 1(a)(iii)(C) of E.O. 13224, as amended, for having materially assisted, sponsored, or provided financial, material, or technological support for, or goods or services to or in support of, ALI REDA HASSAN AL-BANAI, a person whose property and interests in property are blocked pursuant to E.O. 13224, as amended.

6. LARI, `Ali Ridha Qasabi (a.k.a. LARI, `Ali Ridha Qassabi; a.k.a. QASSABI, Alireda Bashi M R), Qatar; DOB 1959; nationality Qatar; Gender Male; Passport 1001546 (individual) [SDGT] (Linked To: HIZBALLAH).

Designated pursuant to section 1(a)(iii)(C) of E.O. 13224, as amended, for having materially assisted, sponsored, or provided financial, material, or technological support for, or goods or services to or in support of, HIZBALLAH, a person whose property and interests in property are blocked pursuant to E.O. 13224.

7. SHAMS, `Abd Al-Rahman `Abd Al-Nabi (a.k.a. SHAMS, Abdulrahman; a.k.a. SHAMS, Abdulrahman Abdulrahim Abdulnab), Bahrain; DOB 31 Jan 1989; citizen Bahrain; Gender Male; Passport 2026337 (Bahrain) expires 01 Jun 2021 (individual) [SDGT] (Linked To: AL BANAI, Ali Reda Hassan).

Designated pursuant to section 1(a)(iii)(C) of E.O. 13224, as amended, for having materially assisted, sponsored, or provided financial, material, or technological support for, or goods or services to or in support of, ALI REDA HASSAN AL-BANAI, a person whose property and interests in property are blocked pursuant to E.O. 13224, as amended.

Entity

1. ALDAR PROPERTIES, Al Jazira Street, Bin Mahmoud, Doha, Qatar; website http://www.aldarproperties.qa; Organization Type: Real estate activities with own or leased property [SDGT] (Linked To: AL-BANAI, Sulaiman).

Designated pursuant to section 1(a)(iii)(A) of E.O. 13224, as amended, for being owned, controlled, or directed by, directly or indirectly, SULAIMAN AL-BANAI, a person whose property and interests in property are blocked pursuant to E.O. 13224, as amended.

Dated: September 29, 2021.
Bradley T. Smith,
Acting Director, Office of Foreign Assets Control, U.S. Department of the Treasury.

[FR Doc. 2021-21657 Filed 10-4-21; 8:45 am]

BILLING CODE 4810-AL-P